DEPARTMENT OF COMMERCE

United States Patent and Trademark Office

Patent and Trademark Financial Transactions

ACTION: Proposed collection; comment request.

SUMMARY: The United States Patent and Trademark Office (USPTO), as required by the Paperwork Reduction Act of 1995, invites comments on a proposed extension of an existing information collection.

DATES: Written comments must be submitted on or before January 16, 2018.

ADDRESSES: You may submit comments by any of the following methods:

• Email: InformationCollection@uspto.gov. Include “0651-0043 comment” in the subject line of the message.

• Federal Rulemaking Portal: http://www.regulations.gov.

• Mail: Marcie Lovett, Records and Information Governance Division Director, Office of the Chief Technology Officer, United States Patent and Trademark Office, P.O. Box 1450, Alexandria, VA 22313-1450.

FOR FURTHER INFORMATION CONTACT: Requests for additional information should be directed to Matthew Lee, Office of Finance by email to Matthew.Lee@uspto.gov with “0651-0043 comment” in the subject line. Additional information about this collection is also available at http://www.reginfo.gov under “Information Collection Review.”

SUPPLEMENTARY INFORMATION:

I. Abstract

Customers may submit payments to the USPTO by several methods, including credit card, deposit account, electronic funds transfer (EFT), and paper check transactions. The provisions of 35 U.S.C. 41 and 15 U.S.C. 1113 are implemented in 37 CFR 1.16-1.28, 2.6-2.7, and 2.206-2.209. Under 35 U.S.C. 41 and 15 U.S.C. 1113, the United States Patent and Trademark Office (USPTO) charges processing fees in the form of service charges related to deposit accounts and payments refused.

This information collection includes the Credit Card Payment Form (PTO-2038), which provides the public with a convenient way to submit a credit card payment for fees related to a patent, trademark, or information product. Customers may also submit credit card payments via the USPTO Payment Page when using online systems through the USPTO Web site for paying fees related to patents, trademarks, or information products.

Customers may establish a deposit account for making fee payments online using Financial Manager at the USPTO Web site. Deposit accounts eliminate the need to submit a check, credit card, or other form of payment for each fee transaction with the USPTO. Additionally, in the event that a fee amount due is miscalculated, customers may authorize the USPTO to charge any remaining balance to the deposit account and therefore avoid the potential consequences of underpayment. As customers use their deposit accounts to make payments, they may deposit funds to replenish their accounts by mailing a check to the USPTO, sending funds via wire transfer, or making a deposit online via EFT using Financial Manager at the USPTO Web site. Replenishments may not be made by credit card. Customers may close or withdraw funds from their deposit accounts online using Financial Manager at the USPTO Web site.

In addition to credit cards and deposit accounts, customers may also use EFT to make online fee payments to the USPTO. Customers must first establish a user profile and submit their banking information online through Financial Manager at the USPTO Web site.

Under 37 CFR 1.26 and 2.209, the USPTO may refund fees paid by mistake or in excess of the required amount. For refund requests customers may submit a written request to the Refund Branch of the USPTO Office of Finance.

The USPTO deployed the Financial Manager system allowing customers to add, manage, and report on payment methods in their online user profiles at the USPTO Web site. After establishing a USPTO.gov account username and password, customers may add their credit card, deposit account, and EFT information to their account using the Financial Manager web interface. Customers may then manage and report on these stored payment methods online. The stored payment methods may be used when the customer conducts transactions with the USPTO.

II. Method of Collection

By mail, facsimile, hand delivery, or electronically to the USPTO.

III. Data

OMB Number: 0651-0043.

IC Instruments and Forms: PTO-2038.

Type of Review: Extension of a Previously Existing Information Collection.

Affected Public: Individuals or households; businesses or other for-profits; and not-for-profit institutions.

Estimated Number of Respondents: 118,796 responses per year.

Estimated Time per Response: The USPTO estimates that it will take the public approximately two to seven minutes (0.03 to 0.12 hours) to gather the necessary information, prepare the appropriate form or document, and submit the items in this collection to the USPTO.

Estimated Total Annual Respondent Burden Hours: 4,395.83 hours.

Estimated Total Annual Respondent (Hourly) Cost Burden: $293,993.33. The USPTO expects that 75% of the submission in this this collection will be prepared by financial administrators and that 25% will be prepared by paraprofessionals/paralegals. The mean hourly rate for financial administrator is $40.84 according to the Bureau of Labor Statistics' Occupational Employment Statistics program (OES 15-1141). The mean hourly rate for paralegals is $145 according to the 2016 compensation survey by the National Association of Legal Assistants. Using those proportions and the estimated rates of $40.84 per hour for financial administrators and $145 per hour for paraprofessionals, the USPTO estimates that the average rate for all respondents will be approximately $66.88 per hour. Therefore, the USPTO estimates that the respondent cost burden for submitting the information in this collection will be approximately $293,993.33 per year.

IC No. | Item | Estimated time for response (minutes) | Estimated annual responses | Estimated annual burden hours | Rate ($/hr) | Total hourly cost burden
|  | (a) | (b) | (a) × (b)/60 = (c) | (d) | (c) × (d) = (e)
1 | Credit Card Payment Form (PTO-2038) | 2 | 87,874 | 2,929.13 | 66.88 | $195,900.44
2 | Deposit Account Replenishment | 2 | 20,843 | 694.77 | 66.88 | 46,465.99
3 | Refund Request | 4 | 8,079 | 538.60 | 66.88 | 36,021.57
4 | Financial Manager Stored Payment Methods | 7 | 2,000 | 233.33 | 66.88 | 15,605.33
Total |  |  | 118,796 | 4,395.83 |  | 293,993.33

Estimated Total Annual (Non-hour) Respondent Cost Burden: $112,725.00. There are no capital start-up, maintenance, or recordkeeping costs associated with this information collection. However, this collection does have annual (non-hour) cost burden in the form of service fees associated with deposit accounts and returned payments as well as postage costs. In addition to the fee information discussed here, information about the deposit account rules is available through the USPTO Web site at: https://www.uspto.gov/learning-and-resources/fees-and-payment/deposit-account-rules-and-information

There are service fees for not maintaining the minimum balance required for the deposit account and for returned payments. There is a $25 service charge for deposit accounts that are below the minimum balance at the end of the month. The USPTO estimates that it assesses 3,600 of these low balance charges annually, for a total of $90,000 per year. There is also a $50 service charge for processing a payment refused (including a check returned “unpaid”) or charged back by a financial institution. The USPTO estimates that it assesses 128 of these returned payment charges annually, for a total of $6,400 per year. The total estimated service fees for this collection are $96,400 per year.

Customers may incur postage costs when submitting the Credit Card Payment Form and other paper forms or requests to the USPTO by mail. Customers generally send the Credit Card Payment Form to the USPTO along with other documents related to the fee or service being paid for by credit card, but some customers may submit just the Credit Card Payment Form without additional supporting documents. The USPTO estimates that roughly 5 percent of the 87,874 paper Credit Card Payment Forms submitted annually may be mailed in; approximately 4,394 per year. The USPTO estimates that it will receive an additional 28,922 mailed submissions per year, including Deposit Account Replenishments and Refund Requests, for a total of 33,316 mailed submissions per year. The USPTO estimates that the first-class postage cost for a mailed submission will be $0.49, for a total postage cost of approximately $16,324.84 per year.

The total annual (non-hour) respondent cost burden for this collection in the form of service fees and postage costs is estimated to be approximately $112,724.84 per year.

IV. Request for Comments

Comments submitted in response to this notice will be summarized or included in the request for OMB approval of this information collection; they also will become a matter of public record.

Comments are invited on:

(a) Whether the proposed collection of information is necessary for the proper performance of the functions of the agency, including whether the information shall have practical utility;

(b) The accuracy of the agency's estimate of the burden (including hours and cost) of the proposed collection of information;

(c) Ways to enhance the quality, utility, and clarity of the information to be collected; and

(d) Ways to minimize the burden of the collection of information on respondents, e.g., the use of automated collection techniques or other forms of information technology.

Ivan King,
Acting Director, Records and Information Governance Division, Office of the Chief Information Officer.

[FR Doc. 2017-24693 Filed 11-14-17; 8:45 am]

BILLING CODE 3510-16-P